DEPARTMENT OF STATE

[Public Notice: 11643]

Notice of Public Meeting in Preparation for International Maritime Organization SSE 8 Meeting

The Department of State will conduct a public meeting at 1:00 p.m. on Thursday, February 17, 2022, to prepare for the eighth session of the International Maritime Organization's (IMO) Sub-Committee on Ship Systems and Equipment (SSE 8). SSE 8 will be held remotely from Monday, February 28, 2022 to Friday, March 4, 2022. This public meeting will be held by way of Microsoft Teams. Members of the public may participate up to the capacity of the Microsoft Teams meeting, which can handle 1,000 participants. To RSVP, participants should contact the meeting coordinator, LCDR Sarah Rodiño, by email at Sarah.E.Rodino@uscg.mil. LCDR Rodiño will provide log in information for Microsoft Teams. Members of the public may also participate via a phone conference by calling (410) 874-6752 and using Conference ID 552 073 07#.

The agenda items to be considered at the public meeting mirror those to be considered at SSE 8, and include:

—Adoption of the agenda

—Decisions of other IMO bodies

—New requirements for ventilation of survival craft

—Consequential work related to the new International Code for Ships Operating in Polar Waters

—Revision of SOLAS chapter III and the LSA Code

—Review of SOLAS chapter II-2 and associated codes to minimize the incidence and consequences of fires on ro-ro spaces and special category spaces of new and existing ro-ro passenger ships

—Amendments to Guidelines for the approval of fixed dry chemical powder fire-extinguishing systems for the protection of ships carrying liquefied gases in bulk (MSC.1/Circ. 1315)

—Development of amendments to the LSA Code and resolution of MSC.81(70) to address the in-water performance of SOLAS lifejackets

—Requirements for onboard lifting appliances and anchor handling winches

—Development of amendments to SOLAS chapter II-2 and the FSS Code concerning detection and control of fires in cargo holds and on the cargo deck of containerships

—Development of amendments to SOLAS chapter II-2 and MSC.1/Circ. 1456 addressing fire protection of control stations on cargo ships

—Development of provisions to prohibit the use of fire-fighting foams containing perfluorooctane sulfonic acid (PFOS) for fire-fighting on board ships

—Validated model training courses

—Revision of the Code of Safety for Diving Systems (Resolution A.831(19)) and the Guidelines and specifications for hyperbaric evacuation systems (resolution A.692(17))

—Unified interpretation of provisions of IMO safety, security and environment-related conventions

—Biennial status report and provisional agenda for SSE 9

—Election of Chair and Vice-Chair for 2023

—Any other business

—Report to the Maritime Safety Committee

Please note: The IMO may, on short notice, adjust the SSE 8 agenda to accommodate the constraints associated with the virtual meeting format. Any changes to the agenda will be reported to those who RSVP and those in attendance at the meeting.

Those who plan to participate may contact the meeting coordinator, LCDR Sarah Rodiño, by email at Sarah.E.Rodino@uscg.mil, or in writing at 2703 Martin Luther King Jr. Ave. SE, Stop 7509, Washington, DC 20593-7509. Members of the public needing reasonable accommodation should advise LCDR Sarah Rodiño not later than February 9, 2022. Requests made after that date will be considered, but might not be possible to fulfill.

Additional information regarding this and other IMO public meetings may be found at: https://www.dco.uscg.mil/IMO.

(Authority: 22 U.S.C. 2656 and 5 U.S.C. 552)

Emily A. Rose,
Coast Guard Liaison Officer, Office of Ocean and Polar Affairs, Department of State.

[FR Doc. 2022-01963 Filed 1-31-22; 8:45 am]

BILLING CODE 4710-09-P